DEPARTMENT OF TRANSPORTATION

Federal Aviation Administration

14 CFR Part 39

[Docket No. FAA-2013-0489; Directorate Identifier 2008-SW-003-AD]

RIN 2120-AA64

Airworthiness Directives; Bell Helicopter Textron Canada Limited

AGENCY: Federal Aviation Administration (FAA), DOT.

ACTION: Supplemental notice of proposed rulemaking (SNPRM); reopening of comment period.

SUMMARY: We are revising and reopening the comment period for an earlier notice of proposed rulemaking (NPRM) for certain Bell Helicopter Textron Canada Limited (Bell) Model 206L-3 and 206L-4 helicopters. The NPRM proposes to require installing a placard and revising the limitations section of the rotorcraft flight manual (RFM). The NPRM was prompted by several incidents of third stage engine turbine wheel failures caused by excessive vibrations at certain engine speeds during steady-state operations. This action proposes to revise the NPRM by adding certain Model 206L1 helicopters to the applicability, excluding certain Model 206L3 and 206L4 helicopters from the applicability, and changing the procedures for updating the RFM. Since these actions impose an additional burden over that proposed in the NPRM, we are reopening the comment period to allow the public the chance to comment on these proposed changes.

DATES: We must receive comments on this SNPRM by December 2, 2014.

ADDRESSES: You may send comments by any of the following methods:

• Federal eRulemaking Docket: Go to http://www.regulations.gov. Follow the online instructions for sending your comments electronically.

• Fax: 202-493-2251.

• Mail: Send comments to the U.S. Department of Transportation, Docket Operations, M-30, West Building Ground Floor, Room W12-140, 1200 New Jersey Avenue SE., Washington, DC 20590-0001.

• Hand Delivery: Deliver to the “Mail” address between 9 a.m. and 5 p.m., Monday through Friday, except Federal holidays.

Examining the AD Docket

You may examine the AD docket on the Internet at http://www.regulations.gov or in person at the Docket Operations Office between 9 a.m. and 5 p.m., Monday through Friday, except Federal holidays. The AD docket contains this proposed AD, the foreign authority's AD, the economic evaluation, any comments received, and other information. The street address for the Docket Operations Office (telephone 800-647-5527) is in the ADDRESSES section. Comments will be available in the AD docket shortly after receipt.

For service information identified in this proposed AD, contact Bell Helicopter Textron Canada Limited, 12,800 Rue de l'Avenir, Mirabel, Quebec J7J1R4; telephone (450) 437-2862 or (800) 363-8023; fax (450) 433-0272; or at http://www.bellcustomer.com/files/. You may review the referenced service information at the FAA, Office of the Regional Counsel, Southwest Region, 2601 Meacham Blvd., Room 663, Fort Worth, Texas 76137.

FOR FURTHER INFORMATION CONTACT: James Blyn, Aviation Safety Engineer, Regulations and Policy Group, Rotorcraft Directorate, FAA, 2601 Meacham Blvd., Fort Worth, Texas 76137; telephone (817) 222-5110; email james.blyn@faa.gov.

SUPPLEMENTARY INFORMATION:

Comments Invited

We invite you to participate in this rulemaking by submitting written comments, data, or views. We also invite comments relating to the economic, environmental, energy, or federalism impacts that might result from adopting the proposals in this document. The most helpful comments reference a specific portion of the proposal, explain the reason for any recommended change, and include supporting data. To ensure the docket does not contain duplicate comments, commenters should send only one copy of written comments, or if comments are filed electronically, commenters should submit only one time.

We will file in the docket all comments that we receive, as well as a report summarizing each substantive public contact with FAA personnel concerning this proposed rulemaking. Before acting on this proposal, we will consider all comments we receive on or before the closing date for comments. We will consider comments filed after the comment period has closed if it is possible to do so without incurring expense or delay. We may change this proposal in light of the comments we receive.

Discussion

We issued an NPRM to amend 14 CFR part 39 to add an airworthiness directive (AD) that would apply to certain Bell Model 206L-3 and 206L-4 helicopters. The NPRM was published in the Federal Register on June 7, 2013 (78 FR 34282). The NPRM proposed to require installing a placard on the instrument panel below the dual tachometer and revising the Operating Limitations section of the Model 206L3 and 206L4 RFMs by inserting pages that limit steady-state operations between speeds of 71.8% and 91.5%.

The NPRM was prompted by Transport Canada Civil Aviation (TCCA) AD No. CF-2005-28R1, dated June 14, 2007, to correct an unsafe condition for certain Model 206L-3 and 206L-4 helicopters. TCCA, which is the aviation authority for Canada, advises of several failures of third stage turbine wheels used in Rolls-Royce 250-C30S and 250-C47B engines. According to TCCA, Rolls-Royce determined that detrimental vibrations can occur within a particular range of turbine speeds, and may be a contributing factor to these failures. Bell has revised the RFM and provided a corresponding decal to inform pilots to avoid steady-state operations between 71.8% and 91.5% turbine speeds. The TCCA AD requires amending the RFMs, advising pilots of the change, and installing a decal as described in Bell Alert Service Bulletin (ASB) No. 206L-05-134, dated June 8, 2005, or later revisions.

Actions Since Previous NPRM was Issued

Since we issued the NPRM (78 FR 34282, June 7, 2013), we determined that Bell Model 206L1 helicopters with Engine Upgrade Kit Part Number (P/N) 206-706-520 installed should be included in the applicability. Engine Upgrade Kit P/N 206-706-520 replaces the Rolls-Royce 250-C28B engine with a Rolls-Royce 250-C30P engine. The condition causing the failures of third stage turbine wheels used in Rolls-Royce 250-C30S and 250-C-47B engines could also exist in Rolls-Royce 250-C30P engines. Lastly, we have determined that Bell Model 206L3 and 206L4 helicopters having Rolls-Royce 250-C20R engines installed under Supplemental Type Certificate (STC) number SR00036SE are exempt from the requirements of the proposed AD because that engine is not affected by the unsafe condition. This SNPRM also changes the procedures for modifying the RFM Limitations Section from inserting revised pages to making pen and ink changes.

Comments

We gave the public the opportunity to comment on the previous NPRM (78 FR 34282, June 7, 2013), and we received a comment from one commenter.

Request

Rolls-Royce Corporation requested that in addition to requiring the placard on the instrument panel, we allow operators the option to temporarily mark the Nr/Np gauge with colored tape to provide a more visual aide to the pilot for the speed avoidance zone.

We disagree. Marking the glass surface of the gauge can create parallax issues when viewing the avoidance ranges on the gauge, resulting in erroneous readings.

FAA's Determination

We are proposing this SNPRM because we evaluated all known relevant information and determined that an unsafe condition is likely to exist or develop on other products of these same type designs. Certain changes described above expand the scope of the original NPRM (78 FR 34282, June 7, 2013). As a result, we have determined that it is necessary to reopen the comment period to provide additional opportunity for the public to comment on this SNPRM.

Related Service Information

Bell issued ASB No. 206L-05-134, Revision A, dated April 9, 2007, which describes procedures for installing a placard on the instrument panel below the main rotor RPM (Nr)/power turbine RPM (N2) dual tachometer and for inserting the RFM changes into the flight manual. Revision A of the ASB was issued to exclude Bell Model 206L-3 and 206L-4 helicopters with 250-C20R engines installed under STC No. SR00036SE from the requirements of the ASB.

Proposed Requirements of the SNPRM

This proposed AD would require installing a placard on the instrument panel below the NR/N2 dual tachometer and also requires revising the Operating Limitations section of the Model 206L3 and 206L4 RFMs to limit steady-state operations between speeds of 71.8% and 91.5%.

Differences Between This Supplemental NPRM and the TCCA AD

The TCCA AD requires compliance within 10 calendar days; this proposed AD would require compliance within 30 days. This proposed AD would be applicable to Model 206L-1 helicopters with Engine Upgrade Kit P/N 206-706-520 installed because the same unsafe condition exits on this model, and the TCCA AD is not.

Costs of Compliance

We estimate that this proposed AD would affect 616 helicopters of U.S. Registry. We estimate that operators may incur the following costs in order to comply with this AD. Based on an average labor rate of $85 per hour, amending the RFM would require about 0.5 work-hour, for a cost per helicopter of about $43 and a cost to U.S. operators of $26,488. Installing the decal would require about 0.2 work-hour, and required parts would cost $20, for a cost per helicopter of $37 and a cost to U.S. operators of $22,792. Based on these estimates, the total cost of this proposed AD would be $80 per helicopter and $49,280 for the fleet.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed, I certify this proposed regulation:

1. Is not a “significant regulatory action” under Executive Order 12866;

2. Is not a “significant rule” under the DOT Regulatory Policies and Procedures (44 FR 11034, February 26, 1979);

3. Will not affect intrastate aviation in Alaska to the extent that it justifies making a regulatory distinction; and

4. Will not have a significant economic impact, positive or negative, on a substantial number of small entities under the criteria of the Regulatory Flexibility Act.

We prepared an economic evaluation of the estimated costs to comply with this proposed AD and placed it in the AD docket.

List of Subjects in 14 CFR Part 39

Air transportation, Aircraft, Aviation safety, Incorporation by Reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. Amend § 39.13 by adding the following new airworthiness directive (AD):

Bell Helicopter Textron Canada Limited (Bell): Docket No. FAA-2013-0489; Directorate Identifier 2008-SW-003-AD.

(a) Applicability

This AD applies to the following helicopters, certificated in any category:

(1) Bell Model 206L-1 with an Engine Upgrade Kit Part Number (P/N) No. 206-706-520-101 installed;

(2) Bell Model 206L-3, serial number (S/N) 51001 through 51612, except those with a Rolls-Royce 250-C20R engine installed under Supplemental Type Certificate (STC) No. SR00036SE; and

(3) Bell Model 206L-4, S/N 52001 through 52313, except those with a Rolls-Royce 250-C20R engine installed under STC No. SR00036SE.

(b) Unsafe Condition

This AD defines the unsafe condition as a third stage turbine vibration, which could result in turbine failure, engine power loss, and subsequent loss of control of the helicopter.

(c) Comments Due Date

We must receive comments by December 2, 2014.

(d) Compliance

You are responsible for performing each action required by this AD within the specified compliance time unless it has already been accomplished prior to that time.

(e) Required Actions

Within 30 days:

(1) Install placard P/N 230-075-213-117, or equivalent, on the instrument panel directly below the dual tachometer.

(2) Revise the Operating Limitations section of the Rotorcraft Flight Manual (RFM) by inserting a copy of this AD into the RFM or by making pen and ink changes as follows:

(i) In the Power Plant section, beneath the Power Turbine RPM header, add: Avoid continuous operations 71.8% to 91.5%.

(ii) In the Placards and Decals section, add: AVOID CONT OPS 71.8% TO 91.5% N2” with the location identification “Location: Instrument Panel.

(f) Alternative Methods of Compliance (AMOCs)

(1) The Manager, Safety Management Group, FAA, may approve AMOCs for this AD. Send your proposal to: James Blyn, Aviation Safety Engineer, Regulations and Policy Group, Rotorcraft Directorate, FAA, 2601 Meacham Blvd., Fort Worth, Texas 76137; telephone (817) 222-5110; email james.blyn@faa.gov.

(2) For operations conducted under a 14 CFR part 119 operating certificate or under 14 CFR part 91, subpart K, we suggest that you notify your principal inspector, or lacking a principal inspector, the manager of the local flight standards district office or certificate holding district office before operating any aircraft complying with this AD through an AMOC.

(g) Additional Information

(1) Bell Alert Service Bulletin No. 206L-05-134, Revision A, dated April 9, 2007, which is not incorporated by reference, contains additional information about the subject of this AD. For service information identified in this AD, contact Bell Helicopter Textron Canada Limited, 12,800 Rue de l'Avenir, Mirabel, Quebec J7J1R4; telephone (450) 437-2862 or (800) 363-8023; fax (450) 433-0272; or at http://www.bellcustomer.com/files/. You may review a copy of the service information at the FAA, Office of the Regional Counsel, Southwest Region, 2601 Meacham Blvd., Room 663, Fort Worth, Texas 76137.

(2) The subject of this AD is addressed in Transport Canada Civil Aviation (TCCA) AD No. CF-2005-28R1, dated June 14, 2007. You may view the TCCA AD at http://www.regulations.gov in Docket No. FAA-2013-0489.

(h) Subject

Joint Aircraft Service Component (JASC) Code: 7250, Turbine Section.

Issued in Fort Worth, Texas, on September 17, 2014.
Kim Smith,
Directorate Manager, Rotorcraft Directorate, Aircraft Certification Service.

[FR Doc. 2014-23582 Filed 10-2-14; 8:45 am]

BILLING CODE 4910-13-P